DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 97 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director Medical Programs, (202) 366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to, or greater than, the level that would be achieved absent such an exemption.” The procedures for requesting an exemption are set forth in 49 CFR part 381.

Accordingly, FMCSA evaluated 97 individual exemption requests on their merit and made a determination that these applicants do not satisfy the criteria eligibility or meet the terms and conditions of the Federal exemption program. Each applicant has, prior to this Notice, received a letter of final disposition on his/her exemption request. Those decision letters fully outlined the basis for the denial and constitute final Agency action. The list published today summarizes the Agency's recent denials as required under 49 U.S.C. 31315(b)(4) by periodically publishing names and reasons for denial.

The following 7 applicants lacked sufficient driving experience during the 3-year period prior to the date of their application:

Larry Cornelius, William M. Dunn, Thomas C. Furcht, Michael E. Herrera, Jr., William Moore, Steve Scriven, Carey A. Willoughby

The following 15 applicants had no experience operating a CMV:

Leon Andrews, Clay Burns, Tracy E. Duke, James R. Gladden, Yi D. Guo, Eric G. Harmann, Meridith J. Karppinen, Jackson D. Mason, Thomas G. Moffett, Kenneth Olsen, Gabriel A. Oubre, Chris Patton, Carlos Quezada, Angelina Rayes, David G. Stringer

The following 27 applicants did not have 3 years of experience driving a CMV on public highways with the vision deficiency:

James R. Bodine, Robert L. Borsh, Larry E. Carter, Albert M. DiVella, Steven Gahart, Martin E. Holden, Lee J. Hollister, Steven M. Keller, Jr., Ray V. Kuhaneck, Christopher Love, Frank S. Martinez, William M. Mercer, Ronald S. Milkowski, Noel V. Munoz, Curtis A. Norris, John P. O'Day, William Offord, Paul C. Pallini, Jerry L. Parks, Douglas L. Peterson, Charles D. Settles, Raeford W. Sink, William J. Statts, Robert D. Swaite, Edwin Treloar, Jr., Ronald Turner, Brent Wheeler, Jr

The following 12 applicants did not have 3 years of recent experience driving a CMV with the vision deficiency:

Ale Algarra, Lee S. Angelo, Eli J. Borkholder, Steven Keyes, Scott Murphy, Dennis R. Overman, Michael J. Peschong, Harry W. Richards, David Smith, Jeffrey M. Thorpe, Charles Watts, Donald Wright

The following 10 applicants did not have sufficient driving experience during the past 3 years under normal highway operating conditions:

Rick A. Ervin, Stephen P. Goodall, John R. Kelly, Osvaldo R. Maldonado, Frank G. Merrill, Alberto Mireles, Jr., Montie Price, Daniel R. Rosas, David M. Sims, Stephen W. Verrette

One applicant, Albert D. Agardi, had more than 2 commercial motor vehicle violations during the 3-year review period and/or application process. Each applicant is only allowed 2 moving citations.

One applicant, William R. Hammond, had commercial driver's license suspensions during the 3-year review period for moving violations. Applicants do not qualify for an exemption with a suspension during the 3-year period.

One applicant, John L. Broadway, had 2 serious commercial motor vehicle violations within a 3-year period. Each applicant is only allowed a total of 2 moving citations, 1, which can be serious.

One applicant, Kerrie L. Smith, did not have verifiable proof of commercial driving experience over the past 3 years under normal highway operating conditions that would serve as an adequate predictor of future safe performance.

The following 3 applicants did not hold a license which allowed operation of vehicles over 10,000 pounds for all or part of the 3-year period:

Adam O. Carson, Joe H. Saine, Joseph W. Schmit.

One applicant, James McKnight, did not have an Optometrist/Ophthalmologist willing to state that he is able to operate a commercial vehicle safely with his vision deficiency.

The following 10 applicants were denied for miscellaneous/multiple reasons:

Carl H. Block, Robert D. Fink, Felix M. Gonzalez, William A. Green, Tina L. Hernandez, Ramon L. Suarez, Clarence Taylor, Reginald D. Taylor, Ricky A. Teel, Jr., Cardell F. Thomas

One applicant, William A. Rochester, was disqualified for holding 2 commercial driver's licenses simultaneously.

One applicant, Soledad R. Martinez, did not meet the vision standard in his better eye.

The following 6 applicants met the current federal vision standards. Exemptions are not required for these applicants that meet the current regulations for vision:

A. B. Brown, Ryan M. Cook, Brian R. Hastins, Terry A. Jordan, Daniel Provencio, Keith Snyder.

Issued on: August 28, 2010.
Larry W. Minor,
Associate Administrator for Policy and Program Development.

[FR Doc. 2010-22538 Filed 9-8-10; 8:45 am]

BILLING CODE 4910-EX-P